ENVIRONMENTAL PROTECTION AGENCY

[FRL-11923-01-R9]

Notice of Availability of Proposed National Pollutant Discharge Elimination System (NPDES) General Permit for Bulk Fuel Facilities in Guam

AGENCY: Environmental Protection Agency (EPA).

ACTION: Notice of availability of proposed NPDES general permit.

SUMMARY: The Environmental Protection Agency (EPA) Region 9 is proposing to reissue a NPDES general permit authorizing discharges of treated effluent from bulk fuel storage facilities located in Guam (Permit No. GUG000001). EPA proposes to reissue the permit upon completion of the notice and comment period and after consideration of all comments received. Upon issuance, the permit will be valid for five years. Use of a NPDES general permit allows EPA and dischargers to allocate resources in a more efficient manner while ensuring consistent permit conditions for comparable facilities. This notice announces the availability of the proposed NPDES general permit and the corresponding fact sheet for public comment, both of which can be found on EPA Region 9's website: https://www.epa.gov/npdes-permits/npdes-permits-epas-pacific-southwest-region-9. EPA is also taking comments on the frequency, duration, and volume of water discharges from each bulk fuel facility for the years including 2019 to 2024.

DATES: Comments on the proposed NPDES general permit must be received by May 19, 2025.

ADDRESSES: Documents and instructions for submitting comments related to this proposed NPDES general permit are available for public inspection online at: https://www.epa.gov/npdes-permits/npdes-permits-epas-pacific-southwest-region-9. If there are issues accessing the website, please contact EPA via the contact information below.

FOR FURTHER INFORMATION CONTACT: Bryn Copson, EPA Region 9, Water Division, NPDES Permits Office; telephone (415) 972-3663; email address: copson.bryn@epa.gov. The proposed NPDES general permit and other related documents in the administrative record are on file and may be inspected any time between 9 a.m. and 4 p.m., Monday through Friday, excluding legal holidays, at the following address:

U.S. EPA Region 9, NPDES Permits Section, Water Division, 75 Hawthorne Street, San Francisco, CA 94105-3901.

SUPPLEMENTARY INFORMATION:

A. Does this action apply to me?

The proposed NPDES General Permit for Bulk Fuel Facilities in Guam is intended to provide NPDES permit coverage to certain discharges from the following bulk fuel storage facilities operating in Guam:

a. Mobil Oil Guam Inc. Cabras Terminal,

b. Tristar Guam F-1 Pier Terminal,

c. South Pacific Petroleum Corporation Cabras Island Terminal,

d. Tristar Guam Agat Terminal, and

e. Guam Power Authority Piti Terminal

The proposed permit does not provide coverage for any other discharges or facilities.

B. How can I submit comments?

• Submit comments by the deadline identified in this Federal Register notice.

• No public hearing is planned. If you would like to request a hearing, please see instructions at: https://www.epa.gov/npdes-permits/npdes-permits-epas-pacific-southwest-region-9.

• Provide your comments in writing via instructions found here: https://www.epa.gov/npdes-permits/npdes-permits-epas-pacific-southwest-region-9. If you need assistance in a language other than English or if you are a person with disabilities who needs a reasonable accommodation at no cost to you, please reach out by email or telephone to the EPA contact. EPA encourages electronic submittals of comments, but if you are unable to submit electronically or need other assistance, please reach out using the contact information above.

• Please note “General Permit for Bulk Fuel Facilities in Guam” in the subject line of any email submittal.

Authority: Clean Water Act, 33 U.S.C. 1251 et seq.

Dated: April 3, 2025.
Tomás Torres,
Director, Water Division, EPA Region 9.

[FR Doc. 2025-06603 Filed 4-16-25; 8:45 am]

BILLING CODE 6560-50-P